ENVIRONMENTAL PROTECTION AGENCY

[FRL 9972-91-Region 2]

Proposed CERCLA Cost Recovery Settlement for Operable Unit Two of the Diamond Alkali Superfund Site, In or About Essex and Hudson Counties, New Jersey

AGENCY: Environmental Protection Agency (EPA).

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, between the EPA and 15 settling parties (“Settling Parties”) regarding Operable Unit Two of the Diamond Alkali Superfund Site (“Site”), located in or about Essex and Hudson Counties, New Jersey. Pursuant to the proposed cost recovery settlement agreement, each Settling Party shall pay to EPA $280,600.00 to resolve the Settling Party's civil liability under sections 106 and 107(a) of CERCLA, related to Operable Unit Two of the Site.

DATES: Comments must be submitted on or before February 12, 2018.

ADDRESSES: The proposed settlement agreement is available for public inspection at EPA's Region 2 offices. To request a copy of the proposed settlement agreement, please contact the EPA employee identified in the FOR FURTHER INFORMATION CONTACT section below.

FOR FURTHER INFORMATION CONTACT: Juan M. Fajardo, Assistant Regional Counsel, Office of Regional Counsel, U.S. Environmental Protection Agency Region 2, 290 Broadway—17th Floor, New York, NY 10007. Email: fajardo.juan@epa.gov Telephone: 212-637-3132.

SUPPLEMENTARY INFORMATION: For 30 days following the date of publication of this notice, EPA will receive written comments concerning the proposed cost recovery settlement agreement. Comments to the proposed settlement agreement should reference Operable Unit Two of the Diamond Alkali Superfund Site, Index No. CERCLA-02-2017-2023. EPA will consider all comments received during the 30-day public comment period and may modify or withdraw its consent to the settlement agreement if comments received disclose facts or considerations that indicate that the proposed settlement agreement is inappropriate, improper, or inadequate. EPA's response to comments will be available for public inspection at EPA's Region 2 offices located at 290 Broadway, New York, NY 10007-1866.

Dated: November 21, 2017.
Walter Mugdan,
Director, Emergency and Remedial Response Division. U.S. Environmental Protection Agency, Region 2.

[FR Doc. 2018-00471 Filed 1-11-18; 8:45 am]

BILLING CODE 6560-50-P